DEPARTMENT OF LABOR

Employment and Training Administration

[SGA/DFA 02-108]

Grants for Small Faith-Based and Community-Based Non-Profit Organizations; Amendment

AGENCY: Employment and Training Administration (ETA), Labor.

ACTION: Notice; amendment.

SUMMARY: The Employment and Training Administration published a document in the Federal Register of April 17, 2002, concerning the availability of grant funds to award a grant to “grass-roots” organizations or small faith-based and community-based non-profit organizations with the ability to connect to the nation's workforce development system. The document is hereby amended.

FOR FURTHER INFORMATION CONTACT: Linda Forman, Grants Management Specialist, Division of Federal Assistance, Fax (202) 693-2879.

Amendment

In the Federal Register of April 17, 2002, in FR Doc. 02-9259, on page 18931, in the second column, add the following paragraph after the first full paragraph.

The Establishment Clause of the First Amendment of the United States Constitution prohibits the government from directly funding religious activity. These grants may not be used for instruction in religion or sacred literature, worship, prayer, proselytizing or other inherently religious practices. The services provided under these grants must be secular and non-ideological. Grant or sub-grant recipients, therefore, may not and will not be defined by reference to religion. Neutral, secular criteria that neither favor nor disfavor religion must be employed in their selection. In addition, under the WIA and DOL regulations implementing the Workforce Investment Act, a recipient may not employ or train a participant in sectarian activities, or permit participants to construct, operate, or maintain any part of a facility that is primarily used or devoted to sectarian instruction or worship. Under WIA, no individual shall be excluded from participation in, denied the benefits of, subjected to discrimination under, or denied employment in the administration of or in connection with, any such program or activity because of race, color, religion, sex (except as otherwise permitted under title IX of the Education Amendments of 1972), national origin, age, disability, or political affiliation or belief.

Signed at Washington, DC, this 8th day of May, 2002,
James W. Stockton,
Grant Officer,

[FR Doc. 02-11884 Filed 5-9-02; 8:45 am]

BILLING CODE 4510-30-M